DEPARTMENT OF ENERGY

Federal Energy Regulatory Commission

[Project No. 10822-015]

Town of Canton, Connecticut; Canton Hydro, LLC; Notice of Application for Transfer of License and Soliciting Comments, Motions To Intervene, and Protests

On February 26, 2019, the Town of Canton, Connecticut (Transferor) and Canton Hydro LLC (Transferee) filed an application for the transfer of license for the Upper Collinsville Hydroelectric Project No. 10822. The proposed project is to be located on the Farmington River in Hartford County, Connecticut.

The applicants seek Commission approval to transfer the license for the Upper Collinsville Hydroelectric Project from the Transferor to the Transferee.

Applicants Contact: For Transferor: Mr. Robert H. Skinner, Chief Administrative Officer, Town of Canton, Connecticut, 4 Market Street, P.O. Box 168, Collinsville, CT 06022-0168, Telephone: 860-693-7837, Email: RSkinner@townofcantonct.org; and Mr. Todd J. Griset, PretiFlaherty, One City Center, P.O. Box 9546, Portland, ME 04112-9546, Telephone: 207-623-5300, Email: tgriset@preti.com.

For Transferee: Mr. Claus Maier, Canton Hydro LLC, Quellenstrasse 44, Zurich 8005 Switzerland, Telephone: +41746005226, Email: claus@cantonhydro.com; Mr. Armin Moehrle, Canton Hydro LLC, 606 East Oakland Boulevard, Chicago, IL 60653, Telephone: 773-395-3680, Email: armin@cantonhydro.com; and Mr. Joshua E. Adrian, and Mr. Donald H. Clarke, Duncan, Weinberg, Genzer & Pembroke, P.C., 1615 M Street NW, Suite 800, Washington, DC 20036, Telephone: 202-467-6370, Emails: jea@dwgp.com, and dhc@dwgp.com.

FERC Contact: Anumzziatta Purchiaroni, 202-502-6191, Anumzziatta.purchiaroni@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-10822-015.

Dated: March 20, 2019.
Kimberly D. Bose,
Secretary.

[FR Doc. 2019-05800 Filed 3-26-19; 8:45 am]

BILLING CODE 6717-01-P